DEPARTMENT OF TRANSPORTATION

National Highway Traffic Safety Administration

[U.S. DOT Docket No. NHTSA-2017-0051]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes the collection of information for which NHTSA intends to seek OMB approval.

DATES: Comments must be received on or before September 18, 2017.

ADDRESSES: You may submit comments identified by DOT Docket Number NHTSA-2017-0051 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Each submission must include the agency name and the docket number for this notice. Note that all comments received will be posted without change to http://www.regulations.gov, including any personal information provided.

FOR FURTHER INFORMATION CONTACT: Kathy J. Sifrit, Contracting Officer's Representative, Office of Behavioral Safety Research (NPD-320), National Highway Traffic Safety Administration, 1200 New Jersey Avenue SE, W46-466, Washington, DC 20590. Dr. Sifrit's phone number is 202-366-0868, and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Older Driver Rearview Video Systems.

Type of Request: New information collection.

OMB Clearance Number: None.

Form Number: NHTSA Forms 1398 and 1399.

Requested Expiration Date of Approval: 3 years from date of approval.

Summary of the Collection of Information: The National Highway Traffic Safety Administration (NHTSA) proposes to collect information from older licensed drivers about their driving performance, driving habits, and levels of familiarity with rearview video systems (RVSs), and to measure their ability to avoid obstacles while backing using an RVS as compared to using only mirrors and shoulder checks. Following initial data collection, the research team will develop a training protocol based on common errors participants made during the first study segment. During the training segment of the study, a new sample of participants will complete backing tasks similar to those in the first segment. Then participants will be randomly assigned to either a training group or a placebo group. Following training all participants will again complete a series of backing tasks. Analyses will test whether the training improved drivers' ability to use the RVS appropriately. This research would give the traffic safety community greater insight into the extent to which older drivers are able to use RVSs effectively and whether training in proper use of the devices improves their ability to use the systems to back safely.

Study participation will be voluntary and will be solicited among residents of residential communities, senior centers, and/or service- or faith-based organizations in the southeastern Pennsylvania area through community newsletters and other community media. Interested older adults will attend a public meeting to learn about the research opportunity including inclusion and exclusion criteria. Following the meeting, interested older adults will provide their name and telephone number on a signup sheet. A project assistant will then call individuals on the signup sheet and conduct a brief telephone pre-screening to ensure that all participants meet inclusion and exclusion criteria; the project assistant will also answer questions about study participation. For interested candidate participants who meet inclusion criteria, the project assistant will make appointments to conduct either a controlled, off-road backing performance evaluation or a training protocol evaluation, at a mutually convenient time. At the beginning of the appointment, the project assistant will obtain a signature from each participant on an informed consent. A driving rehabilitation specialist (DRS) will then conduct the off-road backing performance evaluation or training protocol evaluation. Participants will then receive compensation of $100 for study participation.

Throughout the project, the privacy of all participants would be protected. Access to the participants' data would be controlled using password-protection for both the computer and the files. Personally-identifiable information, such as participants' postal addresses, would be kept separate from the data collected and would be stored in a wall safe in password-protected folders on an external hard drive that is only accessible to study staff who need to access such information. In addition, all participant data would be reported in aggregate, and identifying information would not be used in any reports resulting from this data collection effort. Rigorous de-identification procedures would be used to prevent participants from being identified through reconstructive means.

Description of the Need for the Information and Proposed Use of the Information—NHTSA was established by the Highway Safety Act of l970 (23 U.S.C. 101) to carry out a Congressional mandate to reduce deaths, injuries, and economic losses resulting from motor vehicle crashes on the Nation's highways. As part of this mandate, NHTSA is authorized to conduct research as a foundation for the development of traffic safety programs.

A 2014 final rule issued by NHTSA (Federal Motor Vehicle Safety Standard No. 111, “Rear visibility”) requires rear visibility technology in all new vehicles with a Gross Vehicle Weight Rating (GVWR) under 10,000 pounds by May 2018, but the anticipated safety gains depend in part on the extent to which drivers understand and use the technology as intended. This study has two purposes. The first purpose is to assess the driving performance of adults 50 and older using mirrors and an RVS while operating a motor vehicle in reverse. The second purpose is to develop, implement, and assess the effectiveness of an RVS training protocol. Findings will provide information about whether people ages 50 and older differ in backing performance when using RVS versus only mirrors, whether elements of RVS use are particularly difficult for this cohort, and whether RVS training improves older drivers' ability to avoid obstacles while backing. NHTSA will use the information to inform recommendations to the driving public regarding safe backing practices.

Description of the Likely Respondents (Including Estimated Number, and Proposed Frequency of Response to the Collection of Information)—Respondents will include independently living licensed drivers, age 50 and older, in the southeastern Pennsylvania area. It is estimated that 300 one-time telephone conversations will be conducted with those who sign up after the public meeting, to yield 200 participants. Of the 200 participants, 120 will complete a one-time controlled, off-road backing performance evaluation that will inform the development of the training. The remaining 80 will complete the one-time training protocol evaluation.

Estimate of the Total Annual Reporting and Record Keeping Burden Resulting from the Collection of Information—The total estimated burden for this information collection is 365 hours. The 300 telephone pre-screening will average 15 minutes in length including introduction, qualifying questions, potential participant questions, logistical questions, and conclusion for an estimated total burden of 75 hours. For the 120 participants who complete the controlled, off-road backing performance evaluation, the estimated average burden is 75 minutes (15 minutes for the informed consent form plus 60 minutes for the backing evaluation) for a total estimate of 150 hours. For the 80 participants who complete the training protocol evaluation, the estimated average burden is 105 minutes because of the additional 30 minutes for training (or placebo) for a total estimate of 140 hours. Participants will incur no costs from the data collection and participants will incur no record keeping burden and no record keeping cost from the information collection.

Authority: 44 U.S.C. Section 3506(c)(2)(A).

Issued in Washington, DC on July 17, 2017.
Jeff Michael,
Associate Administrator, Research and Program Development.

[FR Doc. 2017-15219 Filed 7-19-17; 8:45 am]

BILLING CODE 4910-59-P